CIVIL RIGHTS COMMISSION

Sunshine Act Meeting Notice

AGENCY: United States Commission on Civil Rights.

ACTION: Notice of commission telephonic business meeting.

DATES: Tuesday, June 26, 2018, at 1:00 p.m. ET.

ADDRESSES: Meeting to take place by telephone.

FOR FURTHER INFORMATION CONTACT: Brian Walch, (202) 376-8371, publicaffairs@usccr.gov.

SUPPLEMENTARY INFORMATION: This business meeting is open to the public by telephone only.

Participant Access Instructions: Listen Only, Toll Free: 1-888-601-3878, Conference ID: 656-3687. Please dial in 5-10 minutes prior to the start time.

Meeting Agenda

I. Approval of Agenda

II. Program Planning

• Discussion and Vote on 2018 Report: An Assessment of Minority Voting Rights Access in the United States

II. Adjourn Meeting

Dated: June 20, 2018.
Brian Walch,
Director, Communications and Public Engagement.

[FR Doc. 2018-13527 Filed 6-20-18; 11:15 am]

BILLING CODE 6335-01-P